DEPARTMENT OF ENERGY

[14-87-NG, 14-90-NG, 14-91-NG, et al.]

Orders Granting Authority To Import and Export Natural Gas, To Import and Export Liquefied Natural Gas and Vacating Prior Authority During August 2014

ATLANTIC POWER ENERGY SERVICES (US) LLC

PETROCHINA INTERNATIONAL (AMERICA) INC.

MERRILL LYNCH COMMODITES, INC.

TECHGEN S.A. DE C.V.

PETROCHINA INTERNATIONAL (CANADA) INC.

ENERGY SOURCE NATURAL GAS INC.

BLUEWATER GAS STORAGE, LLC

ST. CLAIR POWER L.P.

INFINITE ENERGY, INC.

MERCURIA ENERGY GAS TRADING LLC

TRAILSTONE NA LOGISTICS, LLC

ARC RESOURCES LTD.

GULF OIL LP

BOISE WHITE PAPER, L.L.C.

LOUISIANA LNG ENERGY LLC

AIR FLOW NORTH AMERICA CORP.

CLEAN ENERGY

AGENCY: Office of Fossil Energy, Department of Energy.

ACTION: Notice of orders.

SUMMARY: The Office of Fossil Energy (FE) of the Department of Energy gives notice that during August 2014, it issued orders granting authority to import and export natural gas, to import and export liquefied natural gas, and vacating prior authority. These orders are summarized in the attached appendix and may be found on the FE Web site at http://www.fossil.energy.gov/programs/gasregulation/authorizations/Orders-2014.html. They are also available for inspection and copying in the Office of Fossil Energy, Office of Oil and Gas Global Security and Supply, Docket Room 3E-033, Forrestal Building, 1000 Independence Avenue SW., Washington, DC 20585, (202) 586-9478. The Docket Room is open between the hours of 8:00 a.m. and 4:30 p.m., Monday through Friday, except Federal holidays.

Issued in Washington, DC, on September 29, 2014.
John A. Anderson,
Director, Division of Natural Gas Regulatory Activities, Office of Oil and Gas Global Security and Supply, Office of Oil and Natural Gas.

Appendix

DOE/FE Orders Granting Import/Export Authorizations
3467 | 08/21/14 | 14-87-NG | Atlantic Power Energy Services (US) LLC | Order granting blanket authority to import/export natural gas from/to Canada.
3468 | 08/21/14 | 14-90-NG | PetroChina International (America) Inc. | Order granting blanket authority to import/export natural gas from/to Canada.
3469 | 08/21/14 | 14-91-NG | Merrill Lynch Commodities, Inc. | Order granting blanket authority to import/export natural gas from/to Canada/Mexico.
3470 | 08/21/14 | 14-93-NG | Techgen S.A. de C.V. | Order granting blanket authority to export natural gas to Mexico.
3471 | 08/21/14 | 14-95-NG | PetroChina International (Canada) Inc. | Order granting blanket authority to import/export natural gas from/to Canada.
3472 | 08/21/14 | 14-97-NG | Energy Source Natural Gas Inc. | Order granting blanket authority to import/export natural gas from/to Canada and vacating prior authority.
3473 | 08/21/14 | 14-99-NG | Bluewater Gas Storage, LLC | Order granting blanket authority to import/export natural gas from/to Canada.
3474 | 08/21/14 | 14-100-NG | St. Clair Power L.P. | Order granting blanket authority to import/export natural gas from/to Canada.
3475 | 08/21/14 | 14-101-NG | Infinite Energy, Inc. | Order granting blanket authority to import/export natural gas from/to Canada.
3476 | 08/21/14 | 14-103-NG | Mercuria Energy Gas Trading LLC | Order granting blanket authority to import/export natural gas from/to Canada/Mexico.
3477 | 08/21/14 | 14-106-NG | TrailStone NA Logistics, LLC | Order granting blanket authority to import/export natural gas from/to Canada and to export natural gas to Mexico.
3478 | 08/21/14 | 14-107-NG | ARC Resources Ltd. | Order granting blanket authority to import natural gas from Canada.
3479 | 08/21/14 | 14-108-LNG | Gulf Oil LP | Order granting blanket authority to import LNG from Canada by truck.
3480 | 08/21/14 | 14-110-NG | Boise White Paper, L.L.C. | Order granting blanket authority to import natural gas from Canada.
3482 | 08/28/14 | 14-19-LNG | Louisiana LNG Energy LLC | Order granting long-term Multi-Contract authorization to export LNG by vessel from the proposed Louisiana LNG Energy LLC Project in Plaquemines Parish, Louisiana, to Free Trade Agreement nations.
3483 | 08/29/14 | 14-53-LNG | Air Flow North America Corp. | Order granting blanket authorization to export LNG in ISO Containers transported by vessel to FTANs located within Central America, South America, the Caribbean, or Africa.
3484 | 08/29/14 | 14-54-LNG | Clean Energy | Order granting blanket authority to import/export LNG from/to FTANs by truck, rail, barge, or other waterborne vessel.

[FR Doc. 2014-24133 Filed 10-8-14; 8:45 am]

BILLING CODE 6450-01-P